DEPARTMENT OF ENERGY

Federal Energy Regulatory Commission

[Docket No. CP16-22-000]

NEXUS Gas Transmission, LLC; Notice of Extension of Time Request

Take notice that on June 26, 2020, NEXUS Gas Transmission, LLC (NEXUS) requested that the Federal Energy Regulatory Commission (Commission) grant an extension of time, until August 25, 2021, to complete the construction of the Waterville Compressor Station in Lucas County, Ohio, as authorized as part of the NEXUS Project in the August 25, 2017 Order Issuing Certificates and Granting Abandonment ¹ (August 25 Order). The August 25 Order required NEXUS to complete construction and make the facilities available for service within two years of the Order date. NEXUS commenced service on the majority of the NEXUS Project on October 13, 2018. On July 16, 2019, the Commission granted NEXUS's request for an extension of time until and including August 25, 2020 to complete construction and make available for service the remaining NEXUS Project facilities, which included the Waterville Compressor Station and the TGP meter station and related facilities in Columbiana County Ohio. NEXUS states that it has completed construction of the TGP meter station and related facilities and placed them into service.

¹ NEXUS Gas Transmission, LLC, et al., 160 FERC 61,022 (2017).

NEXUS states that it commenced service for approximately 840,000 dekatherms per day (Dth/d) of the total 1,500,000 Dth/d of certificated capacity. NEXUS asserts that it has since increased firm commitments on the pipelines to more than 1,315,000 Dth/d. NEXUS avers that the Waterville Compressor Station, the remaining NEXUS Project facility for which construction has not yet been completed, is required to provide its full certificated capacity.

This notice establishes a 15-calendar day intervention and comment period deadline. Any person wishing to comment on NEXUS's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC 61,144, at P 40 (2020).

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically should submit an original and three copies of the protest or intervention to the Federal Energy Regulatory Commission, 888 First Street NE, Washington, DC 20426.

Comment Date: 5:00 p.m. Eastern Time on July 15, 2020.

Dated: June 30, 2020.
Kimberly D. Bose,
Secretary.

[FR Doc. 2020-14527 Filed 7-6-20; 8:45 am]

BILLING CODE 6717-01-P